DEPARTMENT OF THE INTERIOR

National Park Service

[NPS-WASO-NRNHL-17258; PPWOCRADI0, PCU00RP14.R50000]

National Register of Historic Places; Notification of Pending Nominations and Related Actions

Nominations for the following properties being considered for listing or related actions in the National Register were received by the National Park Service before November 22, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 21, 2015. Before including your address, phone number, email address, or other personal identifying information in your comment, you should be aware that your entire comment—including your personal identifying information—may be made publicly available at any time. While you can ask us in your comment to withhold your personal identifying information from public review, we cannot guarantee that we will be able to do so.

Dated: December 3, 2014.
J. Paul Loether,
Chief, National Register of Historic Places/National Historic Landmarks Program.

CALIFORNIA

Santa Clara County

San Jose Central Fire Station, 201 N. Market St., San Jose, 14001113

Woman's Club of Palo Alto, 475 Homer Ave., Palo Alto, 14001114

Sonoma County

Sonoma Valley Woman's Club, 574 1st St., E., Sonoma, 14001115

FLORIDA

Sarasota County

Scott Commercial Building, (Sarasota School of Architecture MPS) 261-265 S. Orange Ave., Sarasota, 14001116

KANSAS

Butler County

Smith, Ray L., House, 812 W. Central Ave., El Dorado, 14001117

Ellsworth County

Lloyd, Ira E, Stock Farm, (Agriculture-Related Resources of Kansas MPS) 1575 Ave. JJ, Ellsworth, 14001118

Harvey County

Wirkler—Krehbiel House, 2727 N. Main St., North Newton, 14001119

Leavenworth County

Little Stranger Church and Cemetery, NE. corner of Tonganoxie & Stranger Rds., Leavenworth, 14001120

Meade County

Dalton Gang Hideout and Museum, (Roadside Kansas MPS) 502 S. Pearlette St., Meade, 14001121

Pratt County

Hotel Roberts, 120 W. 4th St., Pratt, 14001122

MICHIGAN

Wayne County

Grosse Pointe Yacht Club, 788 Lake Shore Rd., Grosse Pointe Shores, 14001124

MISSOURI

St. Louis County

Father Dickson Cemetery, 845 S. Sappington Rd., Crestwood, 14001125

MONTANA

Flathead County

Big Creek Ranger Station Historic District, North Fork Rd., Polebridge, 14001126

Petroleum County

Cat Creek Oil Field Sign, Mi. 150, MT 200, Mosby, 14001127

NEBRASKA

Keith County

Front Street, 519 E. 1st St., Ogallala, 14001128

NEW YORK

Oswego County

Derrick Boat No. 8, 1 W. 1st St., Oswego, 14001129

Schoharie County

House at 461 Spruce Lake Road, 461 Spruce Lake Rd., Summit, 14001130

OREGON

Curry County

Lindberg, Peter John, House, 906 N. Washington St., Port Orford, 14001131

PENNSYLVANIA

Erie County

Adams, C.F., Building, 101 E. 6th St., Erie, 14001132

Washington County

Washington Trust Company Building, 6 S. Main St., Washington, 14001133

PUERTO RICO

Ponce Municipality

Puente Rio Portugues, (Historic Bridges of Puerto Rico MPS) Eugenio Maria de Hostos Ave., Ponce, 14001134

San Juan Municipality

Villa Victoria, 905 Ponce de Leon Ave., San Juan, 14001135

UTAH

Davis County

Wayman, John and Sarah Jane, House, (Centerville MPS) 240 S. 300 East, Centerville, 14001136

Salt Lake County

Bradford, Rawsel and Jane, House, (Murray City, Utah MPS) 570 E. 4800 South, Murray City, 14001137

Miller, James and Mary Jane, House, (Murray City, Utah MPS) 4929. S. Lake Pines Dr., Murray City, 14001138

Murray City Diesel Power Plant, (Murray City, Utah MPS) 157 W. 4800 South, Murray City, 14001139

Price, John and Margaret, House, 2691 E. St. Mary's Way, Salt Lake City, 14001140

VERMONT

Windsor County

Abbott Memorial Library, 15 Library St., Pomfret, 14001141

WASHINGTON

Clark County

Meyer, Heye H. and Eva, Farmstead, 13705 NE. 50th Ave., Vancouver, 14001142

King County

Si View Park, 400 SE. Orchard Dr., North Bend, 14001143

Spokane County

Kiesow—Gentsch House, 618 W. 23rd Ave., Spokane, 14001144

A request for removal has been received for the following resources:

KANSAS

Dickinson County

First Presbyterian Church of Abilene, 300 N. Mulberry St., Abilene, 01000540

Rush County

Rush County Line Bridge, (Masonry Arch Bridges of Kansas TR) 11 mi. N. of Otis, Otis, 86003355

[FR Doc. 2014-30887 Filed 1-5-15; 8:45 am]

BILLING CODE 4312-51-P